SMALL BUSINESS ADMINISTRATION

[Declaration of Disaster #3423]

State of Minnesota; Disaster Loan Areas

As a result of the President's major disaster declaration on June 14, 2002, I find that Roseau County in the State of Minnesota constitutes a disaster area due to damages caused by severe storms, flooding and tornadoes occurring on June 9, 2002 and continuing. Applications for loans for physical damage as a result of this disaster may be filed until the close of business on August 13, 2002 and for economic injury until the close of business on March 14, 2003 at the address listed below or other locally announced locations:

U.S. Small Business Administration, Disaster Area 2 Office, One Baltimore Place, Suite 300, Atlanta, GA 30308.

In addition, applications for economic injury loans from small businesses located in the following contiguous counties may be filed until the specified date at the above location: Beltrami, Kittson, Lake of the Woods, and Marshall in the State of Minnesota.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury:
Businesses and small agricultural cooperatives without credit available elsewhere | 3.500

The numbers assigned to this disaster are 342311 for physical damage and 9Q1700 for economic injury.

(Catalog of Federal Domestic Assistance Program Nos. 59002 and 59008)
Dated: June 17, 2002.
Herbert L. Mitchell,
Associate Administrator for Disaster Assistance.

[FR Doc. 02-15814 Filed 6-21-02; 8:45 am]

BILLING CODE 8025-01-P